DEPARTMENT OF ENERGY

Federal Energy Regulatory Commission

Supplemental Notice of Technical Conference and Order on Late Intervention

August 8, 2008.

Dominion Cove Point LNG, LP | Docket Nos.: CP05-130-000
| CP05-130-001
| CP05-130-002
| CP05-130-003
| CP05-132-000
| CP05-132-001
| CP05-132-002
| CP05-395-000
| CP05-395-001
Dominion Transmission, Inc. | Docket Nos.: CP05-131-000
| CP05-131-001
| CP05-131-002
| (Not consolidated)

Take notice that as previously announced on August 1, 2008, the Federal Energy Regulatory Commission (Commission) will hold a technical conference in the above-captioned proceedings on Thursday, August 14, 2008. As stated in the August 1, 2008 Notice, the purpose of the conference is to allow the parties and Commission staff to discuss whether and when the Cove Point Expansion Project can go forward without causing unsafe leakage consistent with the public interest. Specifically, the participants should be prepared to discuss the nature and progress of remedial measures taken to date, as well as the need and benefit of any other remedial measures that might be taken by Washington Gas Light Company (WGL) and Dominion Cove Point LNG, LP so that WGL's system can safely accommodate the increased amounts of regasified LNG from Cove Point's LNG import terminal. The Commission is providing further information concerning the conference.

Conference Information

Date: Thursday, August 14, 2008.

Time: 9:30 a.m. to 1:30 p.m. (EST).

Location: Federal Energy Regulatory Commission, 888 First Street, NE., Room 3M-2A and B, Washington, DC 20426.

Commission staff will preside over the technical conference. Following staff's opening remarks and questions from staff to various participants, Commission staff will oversee a discussion among the participants, confined to subjects described herein and in prior notices, as appropriate in light of the information provided in response to Commission staff questions. The Commission's seasonal, business-casual policy will apply. For further information about this proceeding, interested persons may go to the Commission's Web site, www.ferc.gov, and search under the docket number for this proceeding, Docket No. CP05-130-000, et al.

CPV Power Development, Inc. filed a motion to intervene out-of-time in these proceedings on July 29, 2008. The Commission, pursuant to Rule 214(d)(3)(i) of the Commission's Rules of Practice and Procedure, hereby grants CPV Power Development, Inc.'s motion to intervene out-of-time for the limited purpose of participating in the Technical Conference. The Commission reserves to right later to grant or deny further party status to CPV Power Development, Inc. as may be appropriate.

FERC conferences are accessible under section 508 of the Rehabilitation Act of 1973. For accessibility accommodations please send an e-mail to accessibility@ferc.gov or call toll free (866) 208-3372 (voice) or (202) 208-1659 (TTY), or send a FAX to (202) 208-2106.

Any questions about this procedural conference may be directed to: Berne Mosley, 202-502-8265, berne.mosley@ferc.gov or Whit Holden, 202-502-8089, edwin.holden@ferc.gov.

Nathaniel J. Davis, Sr.,
Deputy Secretary.

[FR Doc. E8-19000 Filed 8-15-08; 8:45 am]

BILLING CODE 6717-01-P